DEPARTMENT OF THE INTERIOR

Fish and Wildlife Service

50 CFR Part 17

RIN 1018-AH83

Endangered and Threatened Wildlife and Plants; Proposed Designation of Critical Habitat for the Robust Spineflower; Correction

AGENCY: Fish and Wildlife Service, Interior.

ACTION: Proposed Rule; technical corrections.

SUMMARY: We, the U.S. Fish and Wildlife Service, published a proposed rule to establish critical habitat for the robust spineflower (Chorizanthe robusta var. robusta) in the Federal Register on February 15, 2001. The proposed rule contained several errors in the map and legal description for the Freedom mapping unit (Unit D). This document contains corrections to the proposed rule to designate critical habitat for Chorizanthe robusta var. robusta for this proposed critical habitat unit.

DATES: We will accept comments until the close of business on June 4, 2001. Requests for public hearings must be received by May 23, 2001.

ADDRESSES: Comment submission: If you wish to comment, you may submit your comments and materials by any one of several methods:

1. You may submit written comments and information to Diane Noda, Field Supervisor, Ventura Fish and Wildlife Office, 2394 Portola Road, Suite B, Ventura, California 93003. You may also hand-deliver written comments to our Ventura Fish and Wildlife Office at the address given above.

2. You may send comments by electronic mail (e-mail) to: robustsf@fws.gov See the Public Comments Solicited section below for file format and other information on electronic filing.

Comments and materials received, as well as supporting documentation used in the preparation of this proposed rule, will be available for public inspection, by appointment, during normal business hours at the Ventura Fish and Wildlife Office.

FOR FURTHER INFORMATION CONTACT: Diane Noda, Field Supervisor, at the address above (telephone 805/644-1766; facsimile 805/644-3958).

SUPPLEMENTARY INFORMATION:

Background

On February 15, 2001, we proposed critical habitat for the robust spineflower (Chorizanthe robusta var. robusta), pursuant to the Endangered Species Act of 1973, as amended (Act) (16 U.S.C. 1531 et seq.) (66 FR 10419). A total of approximately 660 hectares (ha) (1,635 acres (ac)) of land fall within the boundaries of the proposed critical habitat designation, all in Santa Cruz County, California.

The proposed rulemaking contained errors in the mapping and legal description for the Freedom mapping unit (Unit D). In the proposed rule, we inadvertently mapped this unit to the north and east of the correct location. We are providing a corrected Geographic Information System (GIS) map and a corrected legal description of the mapping unit. The GIS map is provided to help the public understand the general location of the proposed critical habitat. A corrected version of Table 5 is also provided; this table provides approximate areas of proposed critical habitat for Chorizanthe robusta var. robusta by land ownership. The corrected table indicates that for the Freedom Unit, approximately 3.8 ha (9.5 ac) are on private lands and 0.2 ha (0.5 ac) are on lands under local jurisdiction.

Public Comments Solicited

We intend that any final action resulting from this technical clarification be as accurate as possible. Comments and suggestions from the public, concerned governmental entities, private interests, or any other interested party are solicited. Comments are invited specifically concerning:

(1) Biological data concerning any threat (or lack thereof) to Chorizanthe robusta var. robusta;

(2) The location of any additional populations of the species, and the reasons why any habitat in should or should not be designated as critical habitat, as provided by section 4 of the Act;

(3) Additional information concerning the range, distribution, and population size of Chorizanthe robusta var. robusta; and

(4) Current or planned activities within the proposed critical habitat units and their possible impacts on the species.

National Environmental Policy Act

We have determined that environmental assessments and environmental impact statements, as defined in the National Environmental Policy Act of 1969, need not be prepared in connection with regulations adopted pursuant to section 4(a) of the Act. We published a notice outlining our reasons for this determination in the Federal Register on October 25, 1983 (48 FR 49244).

Paperwork Reduction Act

This rule does not contain any new collections of information other than those already approved under the Paperwork Reduction Act, 44 U.S.C. 3501 et seq., and assigned Office of Management and Budget clearance number 1018-0094. An agency may not conduct or sponsor, and a person is not required to respond to, a collection of information unless it displays a currently valid control number. For additional information concerning permit and associated requirements for endangered species, see 50 CFR 17.62 and 17.63.

Author(s)

The primary authors of this proposed rule is Connie Rutherford (see ADDRESSES section), and Barbara Behan, U.S. Fish and Wildlife Service, 911 N.E. 11th Avenue, Portland, Oregon 97232 (telephone 503/231-6131).

Authority

The authority for this action is the Endangered Species Act (16 U.S.C. 1531 et seq.)

In proposed rule FR Doc. 01-1837, published February 15, 2001 (66 FR 10419), make the following corrections.

1. On page 10425, correct Table 5 to read as follows:

Table 5.—Approximate Areas, in Hectares (ha) and Acres (ac),¹ of Proposed Critical Habitat for Chorizanthe robusta var. robusta by Land Ownership
Unit name | State lands | Private lands | City and other local jurisdictions | Federal lands | Total
A. Pogonip | 20 ha (50 ac) | 45 ha (115 ac) | 100 ha (250 ac) |  | 165 ha (410 ac).
B. Branciforte |  | 5 ha (10 ac) |  |  | 5 ha (10 ac).
C. Aptos |  | 30 ha (80 ac) |  |  | 30 ha (80 ac).
D. Freedom |  | 3.8 ha (9.5 ac) | 0.2 ha (0.5 ac) |  | 4 ha (10 ac).
E. Buena Vista |  | 75 ha (185 ac) |  |  | 75 ha (185 ac).
F. Sunset | 55 ha (130 ac) |  |  |  | 55 ha (130 ac).
G. Former Fort Ord |  |  |  | 325 ha (805 ac) | 325 ha (805 ac).
Total | 75 ha (180 ac) | 157 ha (396 ac) | 102 ha (254 ac) | 325 ha (805 ac) | 659 ha (1,635 ac).
¹ Approximate acres have been converted to hectares (1 ha = 2.47 ac). Based on the level of imprecision of mapping of each unit, hectares and acres greater than 10 have been rounded to the nearest 5; hectares and acres less than or equal to 10 have been rounded to the nearest whole number. Totals are sums of units.

§ 17.96 [Corrected]

2. On page 10434, correct the legal description for Map Unit D to read as follows:

Map Unit D (Freedom). Santa Cruz County, California. From USGS 7.5′ quadrangle map Watsonville West, California. The following lands within the Aptos Land Grant: T. 11 S. R.1 E., W½ of NW¼ of NW¼ of SE¼; the NE¼ of NE¼ of NE¼ of SW¼; and SE¼ of SE¼ of SE¼ of NW¼, Mount Diablo Base Principal Meridian, sec. 16 (protracted).

3. On page 10435, correct the map for Freedom Unit (Unit D) to read as follows:

BILLING CODE 4310-55-P

BILLING CODE 4310-55-C

Dated: April 25, 2001.
Daniel Welsh,
Acting Manager, California/Nevada Operations.

[FR Doc. 01-10830 Filed 5-2-01; 8:45 am]

BILLING CODE 4310-55-P